DEPARTMENT OF ENERGY

Notice of Program Interest for Isotopes for Production in Support of Medical and Scientific Research

AGENCY: U.S. Department of Energy (DOE).

ACTION: Notice of program interest.

SUMMARY: The U.S. Department of Energy (DOE) announces an unrestricted program which will provide identification of isotopes needed by the research community to explore and develop new and innovative uses for isotopes. These isotopes will be used for production in support of medical and scientific research. The Department's objective of this effort is to poll the research community in order to generate a list of research isotopes that DOE will consider for production for FY 2003 and beyond. A peer-review process that examines the merits of the isotope-based research as described in the Expressions of Interest in response to this Notice of Program Interest (NOPI) will be used to help determine which isotopes will be placed on the Nuclear Energy Protocol for Research Isotopes (NEPRI) list and therefore be eligible for production.

DATES: Opening date: February 18, 2002, and Closing date: March 29, 2002.

ADDRESSES: Complete details, instructions on how to apply, and opening and closing dates will be provided via a formal solicitation document which will be disseminated electronically as solicitation number DE-RI01-02NE00000 through the Department's Industry Interactive Procurement System (IIPS) home page located at https://doe-iips.pr.doe.gov.

FOR FURTHER INFORMATION CONTACT: John Pantaleo, Jr., Program Manager, at (301) 903-2525, Phyllis Morgan, Contract Specialist at 202-287-1504, and Paul Gervas, Attorney and Advisor at 202-586-6918.

SUPPLEMENTARY INFORMATION: The Department will support its unique infrastructure for isotope production. Buyers of NEPRI isotopes must cover cost of production. Expressions of Interest will be subject to peer review by the Department's Isotope Review Advisory Panel.

Effective October 1, 1999, the IIPS system became the primary way for the Office of Headquarters Procurement Services to disseminate solicitations and receive responses in a paperless environment. All documents included in your Expression of Interest should be submitted in the Microsoft Word format. To get more information about IIPS and to register your organization, go to https://doe-iips.pr.doe.gov. Follow the link on the IIPS home page to the Secure Services Page. Registration is a prerequisite to the submission of an Expression of Interest, and respondents are encouraged to register as soon as possible. When registering, all respondents should use the same North American Industry Classifications System Number: 325412. A help document, which describes how IIPS works, can be found at the bottom of the Secure Services Page.

Kevin M. Smith,
Director, Program Services Division, Office of Headquarters Procurement Services.

[FR Doc. 02-3088 Filed 2-7-02; 8:45 am]

BILLING CODE 6450-01-P